DEPARTMENT OF JUSTICE

Antitrust Division

Notice Pursuant to the National Cooperative Research and Production Act of 1993—The Open Group, L.L.C.

Notice is hereby given that, on August 24, 2016, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances.

Specifically, Azeemi Technologies, Riyadh, SAUDI ARABIA; CTC TrainCanada, Inc., Ottawa, CANADA; DAIN s.r.o, Prague, CZECH REPUBLIC; DRS Training & Control Systems, LLC, Fort Walton Beach, FL; Impetus Consulting FZ-LLC, Dubai, UNITED ARAB EMIRATES; Informatica Corporation, Redwood City, CA; Institute for Information Industry, Taipei, TAIWAN; ITM Beratungsgesellschaft GmbH, Stuttgart, GERMANY; Koenig Solutions Limited, New Delhi, INDIA; Manipal Global Education Services Private Limited, Bangalore, INDIA; Methods Advisory Ltd., London, UNITED KINGDOM; National Security Agency, Fort Meade, MD; ORSYS Formation, Paris, FRANCE; People Media S.A. de C.V., Mexico City, MEXICO; Prism Tech, Woburn, MA; The Organization Zone LLC, San Jose, CA; ValueFlow IT Pty. Ltd., Cattai, AUSTRALIA; Vector Software, Inc., East Greenwich, RI; Vinsys IT Consulting, Pune, INDIA; VTS, Inc., Folsom, CA; and University of Warwick, Coventry, UNITED KINGDOM, have been added as parties to this venture.

Also, Alliant Techsystems Operations LLC, Clearwater, FL; Camber Corporation, Huntsville, AL; Chesapeake Technology International Corp., California, MD; Concurrent Computer Corporation, Duluth, GA; Deccan Global Solutions LLC, Cumming, GA; Department of Navy, Patuxent River, MD; European Aeronautics Defense and Space Company, Cedex, FRANCE; Fortescue Metals Group, East Perth, AUSTRALIA; Goobiz, Cergy, FRANCE; Intelligent Training de Colombia, Bogota, COLOMBIA; IRM United Kingdom Strategic IT Training, Pinner, UNITED KINGDOM; Juniper Networks, Herndon, VA; KPN Corporate Market B.V., Amsterdam, THE NETHERLANDS; Kwezi Software Solutions (Pty) Ltd., Woodmead, SOUTH AFRICA; Lawrence Berkeley National Laboratory, Berkeley, CA; Sigma AB, Gothenburg, SWEDEN; and UTC Aerospace Systems, Windsor Locks, CT, have withdrawn as parties to this venture.

In addition, Orbus Software has changed its name to Seattle Software, London, UNITED KINGDOM.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on May 13, 2016. A notice was published in the Federal Register pursuant to Section 6(b) of the Act on June 21, 2016 (81 FR 40350).

Patricia A. Brink,
Director of Civil Enforcement, Antitrust Division.

[FR Doc. 2016-24723 Filed 10-12-16; 8:45 am]

BILLING CODE P